DEPARTMENT OF LABOR

Employment and Training Administration

[TA-W-57,428]

Americal Corporation, Henderson, NC; Notice of Termination of Investigation

Pursuant to Section 221 of the Trade Act of 1974, as amended, an investigation was initiated on June 22, 2005 in response to a petition filed by a company official on behalf of workers at Americal Corporation, Henderson, North Carolina.

The petitioner has requested that the petition be withdrawn. Consequently, the investigation has been terminated.

Signed at Washington, DC, this 29th day of July, 2005.
Linda G. Poole,
Certifying Officer, Division of Trade Adjustment Assistance.

[FR Doc. E5-4678 Filed 8-25-05; 8:45 am]

BILLING CODE 4510-30-P